NATIONAL SCIENCE FOUNDATION

Proposal Review Panel for Materials Research; Notice of Meeting

In accordance with the Federal Advisory Committee Act (Pub., L. 92-463, as amended), the National Science Foundation (NSF) announces the following meeting:

Name and Committee Code: Proposal Review Panel for Materials Research (DMR) (#1203)—Site Visit for the Center for High Energy X-ray Science (CHEXS) at the Cornell High Energy Synchrotron Source (CHESS) at Cornell University, Ithaca, NY.

Date and Time:

April 17, 2018; 6:00 p.m.-9:00 p.m.;

April 18, 2018; 7:30 a.m.-9:00 p.m.;

April 19, 2018; 7:30 a.m.-5:00 p.m.

Place: Cornell University, B07 Day Hall, Ithaca, NY 14853.

Type of Meeting: Part open.

Contact Person: Dr. Guebre X. Tessema, Division of Materials Research, Room 1065, National Science Foundation, 2415 Eisenhower Avenue, Alexandria, VA 22314, Telephone (703) 292-4935.

Purpose of Meeting: Site visit to provide advice and recommendations concerning future support of the CHEXS.

Agenda

Tuesday, April 17, 2018

6:00 p.m.-9:00 p.m. Closed—Briefing of panel

Wednesday, April 18, 2018

7:30 a.m.-4:00 p.m. Open—Review of the CHESS

4:00 p.m.-5:00 p.m. Closed—Executive Session

5:00 p.m.-6:00 p.m. Open—Review of CHESS

7:00 p.m.-8:00 p.m. Open—Dinner

8:00 p.m.-9:00 p.m. Closed—Executive Session

Thursday, April 19, 2018

7:30 a.m.-9:00 a.m. Open—Review of the CHESS

9:00 a.m.-5:00 p.m. Closed—Executive Session, Write Review Report

Reason for Closing: The work being reviewed during closed portions of the site review includes information of a proprietary or confidential nature, including technical information; financial data, such as salaries and personal information concerning individuals associated with CHESS. These matters are exempt under 5 U.S.C. 552b(c), (4) and (6) of the Government in the Sunshine Act.

Dated: March 19, 2018.
Crystal Robinson,
Committee Management Officer.

[FR Doc. 2018-05821 Filed 3-21-18; 8:45 am]

BILLING CODE 7555-01-P